DEPARTMENT OF ENERGY

[OE Docket No. PP-12-1]

Application To Rescind Presidential Permit; Application for Presidential Permit; Versant Power

AGENCY: Office of Electricity, Department of Energy.

ACTION: Notice of application.

SUMMARY: Versant Power (formerly Emera Maine, legacy of Maine Public Service Company) has filed an application to effect a voluntary transfer of Presidential Permit No. PP-12 to its name, via the Department of Energy's (DOE) rescission and simultaneous reissuance of the permit. Versant Power owns the facilities authorized for cross-border electric power transmission by Presidential Permit No. PP-12. The named permittee is Maine Public Service Company, which became Emera Maine following a corporate merger on January 1, 2014, but without a concurrent change to the name on the permit. As a result of another corporate transaction in March 2020, Emera Maine's parent company came under new ownership; Emera Maine was required to change its name and became Versant Power. The application therefore requests that DOE rescind Presidential Permit No. PP-12 and simultaneously issue a permit, in Versant Power's name, covering the same international transmission facilities.

DATES: Comments, protests, or motions to intervene must be submitted on or before May 24, 2021.

ADDRESSES: Comments or motions to intervene should be addressed to Christopher Lawrence, Christopher.Lawrence@hq.doe.gov.

FOR FURTHER INFORMATION CONTACT: Christopher Lawrence (Program Office) at 202-586-5260 or by email to Christopher.Lawrence@hq.doe.gov, or Christopher Drake (Attorney-Adviser) at 202-586-2919 or by email to Christopher.Drake@hq.doe.gov.

SUPPLEMENTARY INFORMATION: The construction, operation, maintenance, and connection of facilities at the international border of the United States for the transmission of electric energy between the United States and a foreign country is prohibited in the absence of a Presidential permit issued pursuant to Executive Order (E.O.) 10485, as amended by E.O. 12038.

On October 7, 2020, Versant Power filed an application with the Office of Electricity of the Department of Energy (DOE), as required by regulations at 10 CFR 205.320 et seq., requesting that DOE rescind and reissue Presidential Permit No. PP-12 to reflect Versant Power's ownership of the permitted facilities. The facilities authorized by Presidential Permit No. PP-12, as amended, include two 69-kilovolt transmission lines connecting to facilities at the international border between Maine, U.S.A. and New Brunswick, Canada. DOE regulations at 10 CFR 205.323 prohibit the voluntary transfer or assignment of a Presidential permit absent an application for a new permit.

On January 3, 1948, President Truman issued Presidential Permit No. PP-12, authorizing Maine Public Service Company (Maine Public) to construct, operate, maintain, and connect the facilities described above. By order of the Federal Power Commission, the permit was amended on December 5, 1963. On November 29, 2012, Maine Public and Bangor Hydro Electric Company (Bangor Hydro) submitted a filing with the Maine Public Utilities Commission (MPUC) requesting approval of a merger between Maine Public and Bangor Hydro, both of which were indirect subsidiaries of Emera Incorporated. On March 19, 2013, Bangor Hydro and Maine Public filed an application with the Federal Energy Regulatory Commission (FERC), under Section 203 of the Federal Power Act, seeking authorization for the merger of Bangor Hydro and Maine Public. On July 18, 2013, FERC issued an order authorizing the proposed merger. On December 17, 2013, the MPUC conditionally approved the corporate merger of Bangor Hydro and Maine Public. Emera Maine became the surviving corporation following the merger of Bangor Hydro and Maine Public on January 1, 2014. Following the merger, Emera Maine remained an indirect subsidiary of Emera Incorporated.

On December 30, 2013, prior to the merger of Maine Public and Bangor Hydro, the two companies jointly filed with the Department an application to rescind PP-12 and to reissue that permit in the name of Emera Maine. Maine Public and Bangor Hydro requested that the issuance of the permit be made effective upon the merger of the companies, which occurred on January 1, 2014. That application was noticed in the Federal Register on April 22, 2014. However, the Department has taken no action on the application, and Presidential Permit PP-12 remains in Maine Public's name.

On March 24, 2020, ENMAX Corporation (ENMAX) indirectly acquired from Emera Inc. all interests in BHE Holdings Inc. (BHE Holdings), a Delaware corporation and the parent company of Emera Maine. More specifically, under the terms of the sale, Emera Inc.'s equity interests in BHE Holdings were sold to 3456 Inc., a wholly-owned indirect subsidiary of ENMAX. As a result, ENMAX now indirectly controls 100 percent of BHE Holdings. BHE Holdings was the direct and sole parent company of Emera Maine. Under the terms of the sale, Emera Maine was required to change its name. Thus, Emera Maine announced in May 2020 that it had been renamed Versant Power. As a result of this change, Versant is requesting that the Presidential permit issued to Maine Public be transferred, via rescission and reissuance, to Versant Power.

Procedural Matters: Any person may comment on this application by filing such comment at the address provided above. Any person seeking to become a party to this proceeding must file a motion to intervene at the address provided above in accordance with Rule 214 of FERC's Rules of Practice and Procedure (18 CFR 385.214). Two (2) copies of each comment or motion to intervene should be filed with DOE on or before the date listed above.

Comments and other filings concerning this application should be clearly marked with OE Docket No. PP-12-1. Additional copies are to be provided directly to Philip C. Smith, Corporate Counsel, Versant Power, P.O. Box 932, Bangor, ME 04401-0932, philip.smith@versantpower.com and Bonnie A. Suchman, Suchman Law LLC, 8104 Paisley Place, Potomac, Maryland 20854, bonnie@suchmanlawllc.com.

Before a Presidential permit may be issued or amended, DOE must find that the proposed action is consistent with the public interest. In making that determination, DOE will consider the environmental impacts of the proposed action (i.e., granting the Presidential permit or amendment, with any conditions and limitations, or denying the permit), evaluate the project's impact on electric reliability by ascertaining whether the proposed project would adversely affect the operation of the U.S. electric power supply system under normal and contingency conditions, and weigh any other factors that DOE may also consider relevant to the public interest. DOE also must obtain the favorable recommendation of the Secretary of State and the Secretary of Defense before taking final action on a Presidential permit application.

This application may be reviewed or downloaded electronically at http://energy.gov/oe/services/electricity-policy-coordination-and-implementation/international-electricity-regulatio-2. Upon reaching the home page, select “Pending Applications.”

Signed in Washington, DC, on April 19, 2021.
Christopher Lawrence,
Management and Program Analyst, Energy Resilience Division, Office of Electricity.

[FR Doc. 2021-08498 Filed 4-22-21; 8:45 am]

BILLING CODE 6450-01-P